ENVIRONMENTAL PROTECTION AGENCY

40 CFR Part 52

[EPA-R01-OAR-2008-0639; A-1-FRL-9431-3]

Approval and Promulgation of Implementation Plans; Connecticut; Infrastructure SIP for the 1997 8-Hour Ozone National Ambient Air Quality Standards

AGENCY: Environmental Protection Agency (EPA).

ACTION: Proposed rule.

SUMMARY: EPA is proposing to conditionally approve one element of Connecticut's December 28, 2007 submittal to meet the Clean Air Act infrastructure requirements for the 1997 ozone National Ambient Air Quality Standard (NAAQS). The Clean Air Act requires that each state adopt and submit a SIP for the implementation, maintenance and enforcement of each NAAQS promulgated by the EPA. This SIP is commonly referred to as an infrastructure SIP. The one element of the submittal that EPA is proposing to conditionally approve addresses requirements under Clean Air Act section 110(a)(2)(D)(ii). This action is being taken under the Clean Air Act.

DATES: Written comments must be received on or before August 8, 2011.

ADDRESSES: Submit your comments, if any, on EPA's direct final conditional approval for Connecticut, identified by Docket ID Number EPA-R01-OAR-2008-0639 by one of the following methods:

1. http://www.regulations.gov: Follow the on-line instructions for submitting comments.

2. E-mail: arnold.anne@epa.gov. Fax: (617) 918-0047. Mail: “Docket Identification Number EPA-R01-OAR-2008-0639”, Anne Arnold, U.S. Environmental Protection Agency, EPA New England Regional Office, Office of Ecosystem Protection, Air Quality Planning Unit, 5 Post Office Square—Suite 100, (Mail code OEP05-2), Boston, MA 02109-3912.

3. Hand Delivery or Courier: Deliver your comments to: Anne Arnold, Manager, Air Quality Planning Unit, Office of Ecosystem Protection, U.S. Environmental Protection Agency, EPA New England Regional Office, Office of Ecosystem Protection, Air Quality Planning Unit, 5 Post Office Square—Suite 100, (Mail code OEP05-2), Boston, MA 02109-3912. Such deliveries are only accepted during the Regional Office's normal hours of operation. The Regional Office's official hours of business are Monday through Friday, 8:30 to 4:30, excluding legal holidays.

Instructions: Direct your comments for Connecticut to Docket ID No. EPA-R01-OAR-2008-0639. EPA's policy is that all comments received will be included in the public docket without change and may be made available online at http://www.regulations.gov, including any personal information provided, unless the comment includes information claimed to be Confidential Business Information (CBI) or other information whose disclosure is restricted by statute. Do not submit through http://www.regulations.gov, or e-mail, information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at Office of Ecosystem Protection, U.S. Environmental Protection Agency, EPA New England Regional Office, 5 Post Office Square, Suite 100, Boston, MA. EPA requests that if at all possible, you contact the person listed in the FOR FURTHER INFORMATION CONTACT section to schedule your inspection. The Regional Office's official hours of business are Monday through Friday, 8:30 to 4:30, excluding legal holidays.

FOR FURTHER INFORMATION CONTACT: Richard P. Burkhart, Air Quality Planning Unit, U.S. Environmental Protection Agency, EPA New England Regional Office, 5 Post Office Square, Suite 100, Boston, MA 02109-3912, telephone number (617) 918-1664, fax number (617) 918-0664, e-mail Burkhart.Richard@epa.gov.

SUPPLEMENTARY INFORMATION: In the Final Rules Section of this Federal Register, EPA is conditionally approving one element of Connecticut's December 28, 2007 submittal to meet the Clean Air Act infrastructure requirements for the 1997 ozone NAAQS as a direct final rule without prior proposal because the Agency views this one element as noncontroversial and anticipates no adverse comments. A detailed rationale for the conditional approval of this one element is set forth in the direct final rule. In brief, Connecticut has committed to revise its SIP within a year to meet the requirement in section 110(a)(2)(D)(ii) of the Act that the state's SIP provide for notice to other states that might be affected by sources proposed to be permitted under the state's Prevention of Significant Deterioration program. In addition, the state has committed in the meantime to continue its practice of providing such notice to affected states. If no adverse comments are received in response to this action, no further activity is contemplated. If EPA receives adverse comments, the direct final rule will be withdrawn and all public comments received will be addressed in a subsequent final rule based on this proposed rule. EPA will not institute a second comment period. Any parties interested in commenting on the conditional approval of the section 110(a)(2)(D)(ii) element should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: June 28, 2011.
Ira W. Leighton,
Acting, Regional Administrator, EPA New England.

[FR Doc. 2011-17025 Filed 7-6-11; 8:45 am]

BILLING CODE 6560-50-P